DEPARTMENT OF TRANSPORTATION

Maritime Administration

[Docket Number: MARAD-2002-12725]

Requested Administrative Waiver of the Coastwise Trade Laws

AGENCY: Maritime Administration, Department of Transportation.

ACTION: Invitation for public comments on a requested administrative waiver of the Coastwise Trade Laws for the vessel THORR.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR part 388 (65 FR 6905; February 11, 2000) that the issuance of the waiver will have an unduly adverse effect on a U.S.-vessel builder or a business that uses U.S.-flag vessels, a waiver will not be granted.

DATES: Submit comments on or before August 12, 2002.

ADDRESSES: Comments should refer to docket number MARAD-2002-12725. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Kathleen Dunn, U.S. Department of Transportation, Maritime Administration, MAR-832 Room 7201, 400 Seventh Street, SW., Washington, DC 20590. Telephone 202-366-2307.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-Build Requirement

(1) Name of vessel and owner for which waiver is requested.

Name of vessel: THORR. Owner: Mark S. Kulstad.

(2) Size, capacity and tonnage of vessel. According to the applicant: “44′2″LWL, 50′6″LOD, 41 gross tons, 33 net tons″

(3) Intended use for vessel, including geographic region of intended operation and trade. According to the applicant:

“I intent to use THORR as my private yacht and offer two (2) to six (6) guests to share in that experience for a fee. I intent to continue to cruise between Seward Alaska, the Prince William Sound and as far west as Kodiak in the summer. The number of day's operation will be limited to the weekends and my days off. My trips will be overnight and three to four days. In September of each year I intend to take THORR down to the South East Alaska for winter lay up and return to Seward in May of each year. I would like to offer (2) to four (4) guests to accompany me on these two trips per year for a fee.”

(4) Date and Place of construction and (if applicable) rebuilding. Date of construction: 1997. Place of construction: Tapei, Taiwan.

(5) A statement on the impact this waiver will have on other commercial passenger vessel operators. According to the applicant: “The impact I will have on other commercial passenger vessel operators should be non-existent. I am owner operator offering 20 to 30 trips a year. I intend to take two to six guests per trip, not because of regulation of economy but because I like to sleep in my own bed. With the hundreds of thousands of visitors to Alaska in the summers my few guests will have no effect on anyone. Currently out of Seward there are no overnight two to six person yacht operators. There are two operators that take out 15 to 20 guests on overnight, sightseeing trips, one operating out of Cordova, and one of Whittier. Out of Seward Kenai Fjord tours, Major marine tours, and Renown Charters offer sightseeing day trips for large groups (25 to 200+). There are also many fishing charters that take out 6 to 25 fishers on daily fishing trips, but THORR is not a fishing boat, it's a luxury yacht, we don't fish. Out of Whittier, Valdez, Cordova, Homer, Kodiak, and considering my 2 trips per year, Juneau, Ketchikan, and Sitka, there are similar large sightseeing tours, fishing charter and large overnight sightseeing charters. I'm sure there a few other small charters similar to my intended operation but with the vast number of tourists, friends, associates, and personal contacts I'm sure I will have no impact on those operators.”

(6) A statement on the impact this waiver will have on U.S. shipyards. According to the applicant: “The issuing of this waiver will have no impact on U.S. shipyards. No U.S. shipyard markets a yacht less that 50 foot, capable of crossing a ocean, for an owner who wants to take the occasional guest for charter.”

Dated: July 8, 2002.
By Order of the Maritime Administrator.
Joel C. Richard,
Secretary, Maritime Administration.

[FR Doc. 02-17502 Filed 7-11-02; 8:45 am]

BILLING CODE 4910-81-P